DEPARTMENT OF COMMERCE

National Oceanic and Atmospheric Administration RIN: 0648-XD28

Fisheries of the South Atlantic; South Atlantic Fishery Management Council; Public Meeting

AGENCY: National Marine Fisheries Service (NMFS), National Oceanic and Atmospheric Administration (NOAA), Commerce.

ACTION: Notice of a joint meeting of the South Atlantic Fishery Management Council's Habitat and Environmental Protection Advisory Panel and Coral Advisory Panel.

SUMMARY: The South Atlantic Fishery Management Council will hold a joint meeting of its Habitat and Environmental Protection Advisory Panel and Coral Advisory Panel in Charleston, SC. See SUPPLEMENTARY INFORMATION.

DATES: The joint meeting will take place November 7-9, 2007. See SUPPLEMENTARY INFORMATION.

ADDRESSES: The meeting will be held at the Charleston Marriott Hotel, 170 Lockwood Boulevard, Charleston, SC; telephone: (800) 968-3569 or (843) 723-3000; fax: (843) 723-0276.

Council address: South Atlantic Fishery Management Council, 4055 Faber Place Drive, Suite 201, N. Charleston, SC, 29405

FOR FURTHER INFORMATION CONTACT: Kim Iverson, Public Information Officer; telephone: (843) 571-4366 or toll free: (866) SAFMC-10; fax: (843) 769-4520; email: kim.iverson@safmc.net.

SUPPLEMENTARY INFORMATION: Members of the Habitat AP and Coral AP will meet from 8:30 a.m. - 5 p.m. on November 7, 2007, from 8:30 a.m. - 5 p.m. on November 8, 2007, and from 8:30 a.m. - 1 p.m. on November 9, 2007.

Items for discussion at the joint advisory panel meeting include discussion and recommendations on proposed actions under the Comprehensive Ecosystem Amendment including: Establishment of Deepwater Coral Habitat Areas of Particular Concerns (HAPCs), compliance with the Essential Fish Habitat (EFH) Final Rule, Allowable Gear Areas for deepwater trawls, designation of areas within the proposed Coral HAPCs where golden crab traps can continue to be used, and discussion and recommendations on new EFH and EFH-HAPC designations. In addition, the advisory panels will review, to the extent possible, the material in the draft Fishery Ecosystem Plan and provide recommendations on EFH conservation and restoration and regional data needs. The advisory panels will also update the Council's Energy Policy to highlight environmental information needs for Alternative Energy development.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. equests for auxiliary aids should be directed to the Council office (see ADDRESSES) 3 days prior to the meeting.

Note: The times and sequence specified in this agenda are subject to change.

Dated: October 9, 2007.
Tracey L. Thompson,
Acting Director, Office of Sustainable Fisheries, National Marine Fisheries Service.

[FR Doc. E7-20167 Filed 10-12-07; 8:45 am]

BILLING CODE 3510-22-S